DEPARTMENT OF THE TREASURY

Customs Service

[T.D. 01-10]

Bonds; Approval To Use Authorized Facsimile Signatures and Seals

The use of facsimile signatures and seals on Customs bonds by the following corporate surety has been approved effective this date: Insurance Company of the State of Pennsylvania. Authorized facsimile signature on file for: Glenn A. Stebbings, Attorney-in-fact; DeAnn M. Dowell, Attorney-in-fact.

The corporate surety has provided the Customs Service with copies of the signatures to be used, a copy of the corporate seal, and a certified copy of the corporate resolution agreeing to be bound by the facsimile signatures and seals. This approval is without prejudice to the surety's right to affix signatures and seals manually.

Dated: January 26, 2001.
Larry L. Burton,
Chief, Entry Procedures and Carriers Branch.

[FR Doc. 01-2709 Filed 1-31-01; 8:45 am]

BILLING CODE 4820-02-P